FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington DC 20551-0001, not later than November 20, 2019.

A. Federal Reserve Bank of Chicago (Colette A. Fried, Assistant Vice President) 230 South LaSalle Street, Chicago, Illinois 60690-1414:

1. Jerry A. Peplinski, Ubly, Michigan; individually, as trustee of the Nicole Peplinski 2016 Northstar Irrevocable Trust and the Peplinski Family 2012 Trust to acquire voting shares of Northstar Financial Group, Inc. and thereby indirectly acquire Northstar Bank, both of Bad Axe, Michigan.

Frank A. Peplinski, trustee to the Frank A. Peplinski Trust dated June 14, 2017, David A. Peplinski and Marilyn R. Peplinski, trustees to the David A. Peplinski Trust dated April 17, 2017, Curtis Watchowski and Lynda Watchowski, trustees to the Brandon Watchowski 2017 Northstar Irrevocable Trust, Terry A. Peplinski, trustee to the Terry A. Peplinski Trust dated June 27, 2018, Lynda M. Watchowski, trustee to the Lynda M. Watchowski Trust dated May 30, 2018, Curtis Watchowski and Lynda Watchowski, trustees to the Jonathan Watchowski 2019 Northstar Irrevocable Trust, and a certain minor child, to be approved as members acting in concert with the Peplinski Family Control Group, and Jeffrey J. Roberts, trustee of the Jeffrey J. Roberts Trust dated December 29, 2016, to be approved as a member of the Roberts Family Control Group, all of Bad Axe, Michigan; to retain voting shares of Northstar Financial Group, Inc. and thereby indirectly retain Northstar Bank, both of Bad Axe, Michigan.

Board of Governors of the Federal Reserve System, October 30, 2019.
Michele Taylor Fennell,
Assistant Secretary of the Board.

[FR Doc. 2019-24061 Filed 11-1-19; 8:45 am]

BILLING CODE 6210-01-P